DEPARTMENT OF TRANSPORTATION

Maritime Administration

[Docket No. MARAD-2025-1126]

Request for Comments on the Renewal of a Previously Approved Information Collection: Request for Transfer of Ownership, Registry, and Flag, or Charter, Lease, or Mortgage of U.S. Citizen Owned Documented Vessels

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0006 (Request for Transfer of Ownership, Registry, and Flag, or Charter, Lease, or Mortgage of U.S. Citizen Owned Documented Vessels) is used to determine if a proposed vessel for transfer will initially require retention under the U.S. flag statutory regulations. MARAD is required to publish this notice in the Federal Register to obtain comments from the public and affected agencies.

DATES: Comments must be submitted on or before February 23, 2026.

ADDRESSES: You may submit comments identified by Docket No. MARAD-2025-1126 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize or include your comments in the request for OMB's clearance of this information collection.

FOR FURTHER INFORMATION CONTACT: Katrina McRae, 202-366-3198, Office of Sealift Support, U.S. Department of Transportation, Maritime Administration, 1200 New Jersey Avenue SE, Washington, DC 20590, Email: Katrina.Mcrae@dot.gov.

SUPPLEMENTARY INFORMATION:

Title: Request for Transfer of Ownership, Registry, and Flag, or Charter, Lease, or Mortgage of U.S. Citizen Owned Documented Vessels.

OMB Control Number: 2133-0006.

Type of Request: Extension without change of currently approved collection.

Abstract: This collection provides information necessary for MARAD to approve the sale, transfer, charter, lease, or mortgage of U.S. documented vessels to non-citizens, or the transfer of such vessels by their owners to foreign registry and flag, as required by various contractual requirements. MARAD uses the compiled data to determine if the transfer is subject to retention under the U.S. flag statutory regulations.

Respondents: Vessel owners who have applied for foreign transfer of U.S. flag vessels.

Affected Public: Business or other for-profit.

Estimated Number of Respondents: 85.

Estimated Number of Responses: 85.

Estimated Hours per Response: 2.

Annual Estimated Total Annual Burden Hours: 170.

Frequency of Response: Annually.

(Authority: The Paperwork Reduction Act of 1995; 44 U.S.C. Chapter 35, as amended; and 49 CFR 1.49.)

By Order of the Maritime Administration.
Gabriel Chavez,
Secretary, Maritime Administration.

[FR Doc. 2025-23727 Filed 12-22-25; 8:45 am]

BILLING CODE 4910-81-P